NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time:

September 20, 2018; 8:30 a.m.-5:00 p.m.

September 21, 2018; 8:30 a.m.-2:00 p.m.

Place: National Science Foundation, 2415 Eisenhower Avenue, Room E 2020, Alexandria, VA 22314.

Please contact Melody Jenkins at mjenkins@nsf.gov to obtain a visitor badge. All visitors to the NSF will be required to show photo ID to obtain a badge.

Type of Meeting: Open.

Contact Person: Brent Miller, National Science Foundation, 2415 Eisenhower Avenue, Room C 12016, Alexandria, VA 22314; Tel. No.: (703) 292-8400.

Purpose of Meeting: The Advisory Committee for the Directorate for Biological Sciences (BIO) provides advice, recommendations, and oversight concerning major program emphases, directions, and goals for the research-related activities of the divisions that make up BIO.

Agenda: Agenda items will include Directorate updates; Advisory Committee for Environmental Research and Education and Committee on Equal Opportunities in Science and Engineering updates; a review of NSF's policy on sexual harassment, Committee of Visitor reports; discussion of National Ecological Observatory Network user engagement; programmatic activities within BIO and graduate education/training; updates on NSF's Big Ideas; and other matters relevant to the Directorate for Biological Sciences.

Dated: August 20, 2018.
Crystal Robinson,
Committee Management Officer.

[FR Doc. 2018-18219 Filed 8-22-18; 8:45 am]

BILLING CODE 7555-01-P